DEPARTMENT OF DEFENSE

United States Air Force

Notice of Intent To Prepare an Environmental Impact Statement (EIS) for the Housing Program at Wright-Patterson Air Force Base (AFB), OH

AGENCY: United States Air Force, Department of Defense.

ACTION: Notice of intent.

SUMMARY: The United States Air Force (Air Force) is issuing this notice to notify the public of its intent to prepare an Environmental Impact Statement (EIS) for the housing program at Wright-Patterson AFB. The EIS is being prepared in accordance with National Environmental Policy Act (NEPA) of 1969; 40 Code of Federal Regulations (CFR), Parts 1500-1508, the Council on Environmental Quality (CEQ) regulations for implementing NEPA; and the Air Force Environmental Impact Analysis Process (EIAP) [32 CFR part 989].

This notice also serves to invite early public and agency participation in determining the scope of environmental issues and alternatives to be analyzed in the EIS and to identify and eliminate from detailed study the issues which are not significant. To effectively define the full range of issues and concerns to be evaluated in the EIS, the Air Force is soliciting scoping comments from interested local, state and federal agencies, interested American Indian tribes, and interested members of the public. This NOI also serves to invite stakeholder participation and comment as part of the National Historic Preservation Act (NHPA) and in support and furtherance of the NHPA Section 106 consultation process.

Scoping comments may be submitted to the Air Force at the planned public scoping meetings and/or in writing.

DATES: The Air Force plans to hold two public scoping meetings from 5:30 p.m. to 8:30 p.m., on the dates and at the locations listed below.

• Monday, September 26, 2016: Fairborn High School Auditorium, 306 E. Whittier Avenue, Fairborn, OH 45324

• Tuesday, September 27, 2016: Fairborn High School Auditorium, 306 E. Whittier Avenue, Fairborn, OH 45324

The agenda for each scoping meeting is as follows:

• 5:30 p.m. to 6:30 p.m.—Open House and comment submission

• 6:30 p.m. to 7:00 p.m.—Air Force Presentation

• 7:00 p.m. to 8:30 p.m.—Open House and comment submission resumes

Local notices announcing scheduled dates, locations, and addresses for each meeting will be published in the Dayton Daily News, Fairborn Daily Herald, Beavercreek News Current, Xenia Daily Gazette and other publications a minimum of fifteen (15) days prior to each meeting.

Comments will be accepted at any time during the Environmental Impact Analysis Process (EIAP). However, to ensure the Air Force has sufficient time to consider public input in the preparation of the Draft EIS, scoping comments must be submitted no later than October 9, 2016.

ADDRESSES: Information on the Wright-Patterson AFB housing project can be accessed at the project Web site at http://wpafbhousingeis.versar.com. The project Web site can be used to submit scoping comments to the Air Force, or comments and inquiries may also be submitted by mail or email to the 88th Air Base Wing Public Affairs Office, 5135 Pearson Road, Bldg. 10, Room 253A, Wright-Patterson AFB, OH 45433 or by email at 88abw.pa@us.af.mil.

SUPPLEMENTARY INFORMATION: Currently, 100 homes remain in the USAF inventory at WPAFB. These homes include ten homes on Yount Drive built in 1975, 89 homes built in 1934-1937 within a planned thematic landscape now managed as the Brick Quarters Historic District (BQHD), and the NRHP-eligible Foulois House constructed in 1874. WPAFB presently operates and maintains the BQHD and Foulois House under provisions of the National Historic Preservation Act (NHPA) Sections 106 and 110. Environmental studies and impact analysis will evaluate options for new construction, conveyance to a private developer, lease, and demolition of these last remaining government-owned homes. Public scoping meetings will be held to assist in identifying reasonable alternatives, potential impacts, and the relative significance of impacts to be analyzed in the EIS.

The purpose of the action is to provide housing that meets Air Force standards for key and essential (K&E) personnel and their dependents stationed at WPAFB. The need for this action stems from mission requirements, Department of Defense (DOD) policy, and the USAF's obligations under the NHPA and Executive Order (EO) 13287, Preserve America. At a minimum, this action must support the mission by providing residences for 30 K&E personnel and their dependents who are required to live on WPAFB. The current privatized housing inventory does not support these needs, as the homes are not of adequate square footage and are not proximate enough to K&E work locations to support the base's housing requirements for the identified K&E personnel.

The EIS will address concerns associated with modification, conveyance, lease, and/or demolition of historic homes within the BQHD. The EIS will analyze alternatives that could include military construction and continued government ownership, housing privatization of all or a portion of the homes, NHPA Section 111 Lease, reuse as temporary lodging facilities, demolition, and the No Action Alternative. Within the framework of these alternatives, the EIS will support Air Force decisions by identifying and evaluating potential impacts to land use, safety, noise, hazardous materials and solid waste, earth resources, water resources, air quality, transportation, cultural resources, biological resources, socioeconomics, and environmental justice.

The USAF intends to use the EIS process and documentation to aid in fulfilling its NHPA, Section 106 consultation requirements (36 CFR 800.8) particularly regarding public participation in the planning process associated with this EIS. In addition, extensive consultation under NHPA Sec. 106 is ongoing with the OHPO, ACHP and other interested parties. That consultation is expected to produce a Sec. 106 project Programmatic Agreement which will be executed prior to issuance of this EIS's Record of Decision (ROD).

Henry Williams,
Acting Air Force Federal Register Officer.

[FR Doc. 2016-21274 Filed 9-2-16; 8:45 am]

BILLING CODE 5001-10-P